NATIONAL AERONAUTICS AND SPACE ADMINISTRATION

[Notice (07-029)]

Aerospace Safety Advisory Panel; Meeting

AGENCY: National Aeronautics and Space Administration.

ACTION: Notice of meeting.

SUMMARY: In accordance with the Federal Advisory Committee Act, Pub. L. 92-463, as amended, the National Aeronautics and Space Administration announces a forthcoming meeting of the Aerospace Safety Advisory Panel.

DATES: Tuesday, April 24, 2007, 1 p.m. to 3 p.m. Central Daylight Time.

ADDRESSES: Johnson Space Center, 2101 NASA Road 1, Robert H. Gilruth Recreation Center, Lone Star Room (R216), Houston, TX 77058.

FOR FURTHER INFORMATION CONTACT: Mr. Mark M. Kowaleski, Aerospace Safety Advisory Panel Executive Director, National Aeronautics and Space Administration, Washington, DC 20546, (202) 358-0751.

SUPPLEMENTARY INFORMATION: The Aerospace Safety Advisory Panel will hold its Quarterly Meeting. This discussion is pursuant to carrying out its statutory duties for which the Panel reviews, identifies, evaluates, and advises on those program activities, systems, procedures, and management activities that can contribute to program risk. Priority is given to those programs that involve the safety of human flight. The agenda will include Safety Organization and Management; Technical Governance; Major Contractor Safety; Constellation Program Safety; and Commercial Orbital Transportation Services Safety. The meeting will be open to the public up to the seating capacity of the room (50).

Seating will be on a first-come basis. Please contact the ASAP Office at (202) 358-0914 at least 48 hours in advance to reserve a seat. Visitors will be requested to sign a visitor's register. Photographs will only be permitted during the first 10 minutes of the meeting. During the first 30 minutes of the meeting, members of the public may make a 5-minute verbal presentation to the Panel on the subject of safety in NASA. To do so, please contact Ms. Susan Burch on (202) 358-0914 at least 24 hours in advance. Any member of the public is permitted to file a written statement with the Panel at the time of the meeting. Verbal presentations and written comments should be limited to the subject of safety in NASA.

Dated: March 19, 2007.
P. Diane Rausch,
Advisory Committee Management Officer, National Aeronautics and Space Administration.

[FR Doc. E7-5956 Filed 3-30-07; 8:45 am]

BILLING CODE 7510-13-P